DEPARTMENT OF ENERGY

Federal Energy Regulatory Commission

[Docket No. RP96-389-007]

Columbia Gulf Transmission Company; Notice of Negotiated Rate Filing

July 19, 2000.

Take notice that on July 14, 2000, Columbia Gulf Transmission Company (Columbia Gulf) tendered for filing to the Federal Energy Regulatory Commission the following contract for disclosure of a recently negotiated rate transaction:

FTS-1 Service Agreement No. 68854 between Columbia Gulf Transmission Company and Virginia Power Energy Marketing, Inc., dated June 30, 2000

Columbia Gulf states that transportation service is scheduled to commence November 1, 2000.

Columbia Gulf states that copies of the filing have been served on all parties on the official service list created by the Secretary in this proceeding.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determing the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-18618 Filed 7-21-00; 8:45 am]

BILLING CODE 6717-01-M